DEPARTMENT OF THE INTERIOR

Fish and Wildlife Service

Re-Opening of the Comment Period for the Draft Recovery Plan for the Sierra Nevada Bighorn Sheep

AGENCY: U.S. Fish and Wildlife Service, Interior.

ACTION: Notice of re-opening of public comment period.

SUMMARY: We, the U.S. Fish and Wildlife Service, announce a re-opening of the comment period for public review of the Draft Recovery Plan for the Sierra Nevada Bighorn Sheep (Ovis canadensis californiana) for an additional 60 days. The original comment period closed on September 29, 2003. We are re-opening the comment period in response to specific requests from the Natural Resources Defense Council and the Sierra Nevada Bighorn Sheep Foundation to allow additional time for public review of this draft recovery plan. This draft recovery plan includes recovery criteria and measures for the Sierra Nevada bighorn sheep.

DATES: Comments on the draft recovery plan must be received on or before December 8, 2003.

ADDRESSES: Copies of the draft recovery plan are available for inspection, by appointment, during normal business hours at the following location: U.S. Fish and Wildlife Service, Ventura Fish and Wildlife Office, 2493 Portola Road, Suite B, Ventura, California 93003 (telephone 805-644-1766). Requests for copies of the draft recovery plan and written comments and materials regarding the plan should be addressed to the Field Supervisor at the above address. An electronic copy of this draft recovery plan is also available at http://www.r1.fws.gov/ecoservices/endangered/recovery/default.htm.

FOR FURTHER INFORMATION CONTACT: Carl Benz, Fish and Wildlife Biologist, at the above address.

SUPPLEMENTARY INFORMATION:

Background

On July 30, 2003, we published a Notice of Availability of the Draft Recovery Plan for the Sierra Nevada Bighorn Sheep, opening a 60-day public comment period that is scheduled to end on September 29, 2003. We have received requests from the Natural Resources Defense Council, the Wilderness Society, and the Sierra Nevada Bighorn Sheep Foundation to extend the comment period so that they might more thoroughly review the plan. Based on these requests, we determined to re-open the comment period for public review of this draft recovery plan.

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions.

This draft recovery plan was developed by the Sierra Nevada Bighorn Sheep Recovery Team. We coordinated with the California Department of Fish and Game, and a team of stakeholders, which included ranchers, landowners and managers, agency representatives, and non-government organizations.

The population of bighorn sheep in the Sierra Nevada of California was listed as an endangered species on January 3, 2000, (65 FR 20) following emergency listing on April 20, 1999, (64 FR 19300). At the time of listing, the bighorn sheep population was very small, with only about 125 adults known to exist among 5 geographic areas, with little probability of interchange among those areas. The bighorn sheep is threatened primarily by transmission of disease from domestic sheep and goats, and predation by mountain lions. Key elements for immediate action are: (1) Predator management; (2) augmentation of small herds with sheep from larger ones; and (3) elimination of the threat of a pneumonia epizootic resulting from contact with domestic sheep or goats. Actions needed to recover the bighorn sheep include: (1) Protection of bighorn sheep habitat; (2) increase population growth by enhancing survivorship and reproductive output of bighorn sheep; (3) increase the numbers of herds, and thereby the number of bighorn sheep; (4) develop and implement a genetic management plan to maintain genetic diversity; (5) monitor status and trends of bighorn sheep herds and their habitat; (6) research; and (7) providing information to the public.

Public Comments Solicited

We solicit written comments on the draft recovery plan described. All comments received by the date specified above will be considered in developing a final recovery plan.

Authority: The authority for this action is section 4(f) of the Endangered Species Act, 16 U.S.C. 1533(f).

Dated: September 24, 2003.
Steve Thompson,
Manager, California/Nevada Operations Office, Region 1, U.S. Fish and Wildlife Service.

[FR Doc. 03-25576 Filed 10-8-03; 8:45 am]

BILLING CODE 4310-55-P